DEPARTMENT OF JUSTICE

Notice of Lodging of Proposed Settlement Agreement Under the Comprehensive Environmental Response, Compensation and Liability Act (CERCLA)

Notice is hereby given that on October 24, 2008, a proposed Settlement Agreement regarding the Precision National Plating Services Superfund Site (the Site), was filed with the United States District Court for the Middle District of Pennsylvania in United States v. Precision National Plating Services, Inc., Civil No. 3:08-CV-1946 (M.D. Penn.). Under the terms of the proposed Consent Decree, Precision will pay EPA $987,809.25 for unreimbursed response costs incurred at the Site from April 29, 2004 through August 18, 2007. In addition, Precision has agreed to reimburse EPA for future response costs associated with the Site, and Precision will continue work to clean up the Site pursuant to a Unilateral Administrative Order issued by EPA in April 1998.

The Department of Justice will receive comments relating to the proposed Agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Precision National Plating Services, Inc., DJ Ref. No. 90-11-3-07298/1.

The proposed Agreement may be examined at the Office of the United States Attorney for the Middle District of Pennsylvania, William J. Nealon Federal Building and Courthouse, 235 N. Washington Ave., Suite 311, Scranton, PA 18503; at the office of the Environmental Protection Agency Region 3, 1650 Arch Street, Philadelphia, PA 19103. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.75 (25 cents per page reproduction cost) payable to the U.S. Treasury.

Robert Brook,
Assistant Section Chief, Environmental Enforcement Section, Environment and Natural Resources Division.

[FR Doc. E8-25860 Filed 10-29-08; 8:45 am]

BILLING CODE 4410-15-P